DEPARTMENT OF HEALTH AND HUMAN SERVICES

Substance Abuse and Mental Health Services Administration

Agency Information Collection Activities: Submission for OMB Review; Comment Request

Periodically, the Substance Abuse and Mental Health Services Administration (SAMHSA) will publish a list of information collection requests under OMB review, in compliance with the Paperwork Reduction Act (44 U.S.C. Chapter 35). To request a copy of these documents, call the SAMHSA Reports Clearance Officer on (301) 443-7978.

Core Measures for the Center for Substance Abuse Prevention—New—The mission of SAMHSA's Center for Substance Abuse Prevention (CSAP) is to decrease substance use and abuse and related problems among the American public by bridging the gap between research and practice. CSAP accomplishes this through field-testing scientifically defensible programs; disseminating comprehensive, culturally appropriate prevention strategies, policies, and systems; and capacity building for states and community-based providers. Data will be collected from CSAP grants and contracts where participant outcomes are assessed pre- and post-intervention. The analysis of these data will help determine whether progress is being made in achieving CSAP's mission.

The primary purpose of the proposed data activity is to promote the use among CSAP grantees and contractors of measures recommended by CSAP as a result of extensive examination and recommendations, using consistent criteria, by panels of experts. The use of consistent measurement for specified constructs across CSAP funded projects will improve CSAP's ability to respond to the Government Performance and Results Act (GPRA) and address goals and objectives outlined in the Office of National Drug Control Policy's Performance Measures of Effectiveness.

It is important to emphasize that CSAP is not requiring the use of these measures if (1) The program does not already plan to target change in the specified construct(s) and/or (2) the measure is not valid for the program's targeted population. The Core Measures are only to be used if appropriate to the program's target population and consistent with the outcome(s) selected by the program. Consequently, no additional burden on the target population is estimated because the program is not being asked to collect data above and beyond what would already have been planned. The annual burden estimated is that for the grantees to extract the necessary data from their files and provide it to CSAP's data coordinating center. The table below summarizes the maximum estimated time, i.e., if all programs used all of the Core Measures—which is unlikely.

Estimates of Annualized Hour Burden
CSAP Program | Number of grantees | Responses/grantee | Hours/response | Total hours
FY01
Knowledge Development
Community Initiated | 22 | 2 | 3 | 132
Family Strengthening | 7 | 2 | 3 | 42
High Risk Youth | 17 | 2 | 3 | 102
Targeted Capacity Enhancement
HIV/Targeted Capacity | 45 | 2 | 3 | 270
State Incentive Grant | 10 | 2 | 3 | 60
FY02
Knowledge Development
Community Initiated | 44 | 2 | 3 | 264
Family Strengthening | 14 | 2 | 3 | 84
High Risk Youth | 34 | 2 | 3 | 204
Targeted Capacity Enhancement
HIV/Targeted Capacity | 90 | 2 | 3 |
State Incentive Grant | 20 | 2 | 3 | 120
FY03
Knowledge Development
Community Initiated | 66 | 2 | 3 | 396
Family Strengthening | 21 | 2 | 3 | 126
High Risk Youth | 51 | 2 | 3 | 306
Targeted Capacity Enhancement
HIV/Targeted Capacity | 135 | 2 | 3 | 810
State Incentive Grant | 30 | 2 | 3 | 180
Annual Average | 202 |  |  | 1,212

Written comments and recommendations concerning the proposed information collection should be sent within 30 days of this notice to: Lauren Wittenberg, Human Resources and Housing Branch, Office of Management and Budget, New Executive Office Building, Room 10235, Washington, DC 20503.

Dated: November 13, 2001.
Richard Kopanda,
Executive Officer, Substance Abuse and Mental Health Administration.

[FR Doc. 01-28910 Filed 11-19-01; 8:45 am]

BILLING CODE 4162-20-P